Title 3—

The President

Proclamation 8166 of August 21, 2007

National Prostate Cancer Awareness Month, 2007

By the President of the United States of America

A Proclamation

During National Prostate Cancer Awareness Month, we underscore our commitment to winning the battle against prostate cancer and raising awareness of the risk factors, prevention, and treatment of this disease.

All men can develop prostate cancer, yet studies have shown that risk increases with age. Although the exact cause of the disease is not yet known, factors that may affect the likelihood of developing prostate cancer include race, diet, general health, and family history. Because the chances of surviving prostate cancer may be higher when it is diagnosed and treated in its early stages, men should speak with their doctors about their risk and screening options.

America leads the world in medical research, and we are committed to continuing our progress in the search for a cure for prostate cancer. Through work at the National Institutes of Health, National Cancer Institute, Centers for Disease Control and Prevention, and the Department of Defense, we are exploring the genetic, biochemical, environmental, and lifestyle factors that increase prostate cancer risk and lead to its development and progression. These and other efforts are helping improve our knowledge of the causes of this disease.

As we observe National Prostate Cancer Awareness Month, we recognize the strength and courage of the men battling prostate cancer and of those who love and support them. We also pay tribute to the medical professionals, the researchers, and all those whose tireless efforts are making a positive difference in the lives of those living with prostate cancer. All Americans can raise awareness and help fight this disease by talking with their friends and families about the risk of prostate cancer and the ways to prevent, detect, and treat it.

NOW, THEREFORE, I, GEORGE W. BUSH, President of the United States of America, by virtue of the authority vested in me by the Constitution and laws of the United States, do hereby proclaim September 2007 as National Prostate Cancer Awareness Month. I call upon government officials, businesses, communities, health care professionals, educators, and the people of the United States to reaffirm our Nation's strong and ongoing commitment to the fight against prostate cancer.

IN WITNESS WHEREOF, I have hereunto set my hand this twenty-first day of August, in the year of our Lord two thousand seven, and of the Independence of the United States of America the two hundred and thirty-second.

[FR Doc. 07-4163

Filed 8-22-07; 8:50 am]

Billing code 3195-01-P